DEPARTMENT OF THE INTERIOR

Fish and Wildlife Service

[FWS-R8-ES-2015-N021; FXES11130000-156-FF08E00000]

Endangered and Threatened Wildlife and Plants; Recovery Plan and Initiation of Status Review for Four Subspecies of Island Fox (Urocyon littoralis)

AGENCY: Fish and Wildlife Service, Interior.

ACTION: Notice of document availability and initiation of status reviews.

SUMMARY: We, the U.S. Fish and Wildlife Service, announce the availability of the final recovery plan for the four subspecies of island fox (Urocyon littoralis). Each of the four subspecies, San Miguel Island fox (Urocyon littoralis littoralis), Santa Rosa Island fox (U. l. santarosae), Santa Cruz Island fox (U. l. santacruzae), and Santa Catalina Island fox (U. l. catalinae), is endemic to the Channel Island off southern California for which it is named. The recovery plan includes recovery objectives and criteria, and specific actions necessary to achieve downlisting and delisting from the Federal Lists of Endangered and Threatened Wildlife and Plants. With the publication of this notice, we are also initiating status reviews of these four subspecies. A status review is based on the best scientific and commercial data available at the time of the review; therefore, we are requesting submission of any such information that has become available since the listing of these subspecies.

DATES: To ensure consideration, we are requesting submission of new information for use in the status review no later than May 8, 2015. However, we will continue to accept new information about any listed species at any time.

ADDRESSES: You may obtain a copy of the recovery plan from our Web site at http://www.fws.gov/endangered/species/recovery-plans.html. You may also request a copy of the recovery plan from the Ventura Fish and Wildlife Office, U.S. Fish and Wildlife Service, 2493 Portola Road, Suite B, Ventura, CA 93003 (telephone 805-644-1766). You may submit new information to be considered in the status reviews to the same address or by email to fw8islandfox@fws.gov.

For more about submitting information, see “Request for Information” in the SUPPLEMENTARY INFORMATION section below.

FOR FURTHER INFORMATION CONTACT: Steve Henry, Field Supervisor, at the above street address or telephone number (see ADDRESSES). Individuals who are hearing impaired or speech impaired may call the Federal Relay Service at 800-877-8339 for TTY assistance.

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

On March 5, 2004, four of the six subspecies of island fox endemic to the California Channel Islands were listed as endangered following catastrophic population declines (69 FR 10335). The San Miguel Island fox declined from an estimated 450 individuals to 15, the Santa Rosa Island fox declined from over 1,750 individuals to 14, the Santa Cruz Island fox declined from approximately 1,450 individuals to approximately 55, and the Santa Catalina Island fox declined from over 1,300 individuals to 103. The San Clemente Island fox (Urocyon littoralis clementae) and the San Nicolas Island fox (U. l. dickeyi) were not federally listed in 2004, as their population numbers had not experienced similar declines.

The two primary threats that resulted in the listing of the four subspecies of island fox as federally endangered were: (1) Predation by golden eagles (Aquila chrysaetos) (San Miguel Island fox, Santa Rosa Island fox, and Santa Cruz Island fox); and (2) disease (Santa Catalina Island fox). Additionally, because the size of each island fox population was drastically reduced, they were highly vulnerable to stochastic events and the effects of low genetic diversity.

Recovery Plan

The Draft Recovery Plan for Four Subspecies of Island Fox (Urocyon littoralis) was developed by the Island Fox Recovery Team's Recovery Coordination Group and was published on September 14, 2012. In developing the plan, we coordinated with the California Department of Fish and Wildlife, and a team of stakeholders, which included scientific experts, landowners and managers, agency representatives, and non-government organizations.

Section 4(f) of the Act requires us to provide an opportunity for public review and comment prior to finalization of recovery plans. We made the draft of this recovery plan available for public comment from September 14, 2012, to November 13, 2012 (77 FR 56858). We considered all information we received during the public comment period and revised the recovery plan accordingly.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

To achieve these goals, we have identified the following objectives in the recovery plan:

(1) Each federally listed subspecies of island fox exhibits demographic characteristics consistent with long-term viability; and

(2) Land managers are able to respond in a timely fashion to predation by nesting golden eagles or significant predation rates by transient golden eagles, to potential or incipient disease outbreaks and to other identified threats using the best available technology.

Because some or all of the subspecies may meet their recovery criteria, we are initiating a status review of each subspecies.

Why do we conduct a status review?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about status reviews, go to http://www.fws.gov/endangered/what-we-do/recovery-overview.html, scroll down to “Learn More about 5-Year Reviews,” and click on our factsheet.

What information do we consider in our review?

A status review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the review and will also be useful in evaluating the ongoing recovery programs for the species.

Request for Information

To ensure that a status review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

Public Availability of Submissions

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Authority

We developed our recovery plan and initiate these reviews under the authority of the Endangered Species Act of 1973, as amended (16 U.S.C. 1531 et seq.).

Dated: February 27, 2015.
Alexandra Pitts,
Regional Director, Pacific Southwest Region.

[FR Doc. 2015-05029 Filed 3-6-15; 8:45 am]

BILLING CODE 4310-55P